FEDERAL EMERGENCY MANAGEMENT AGENCY

44 CFR Part 67

[Docket No. FEMA-D-7500]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Associate Director, Mitigation Directorate, certifies that this proposed rule is exempt from the requirements of the Regulatory Flexibility Act because proposed or modified base flood elevations are required by the Flood Disaster Protection Act of 1973, 42 U.S.C. 4104, and are required to establish and maintain community eligibility in the National Flood Insurance Program. As a result, a regulatory flexibility analysis has not been prepared.

Regulatory Classification.This proposed rule is not a significant regulatory action under the criteria of section 3(f) of Executive Order 12866 of September 30, 1993, Regulatory Planning and Review, 58 FR 51735.

Executive Order 12612, Federalism.This proposed rule involves no policies that have federalism implications under Executive Order 12612, Federalism, dated October 26, 1987.

Executive Order 12778, Civil Justice Reform.This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. * Elevation in feet (NGVD): Existing | # Depth in feet above ground. * Elevation in feet (NGVD): Modified
Connecticut | Middletown (City) Middlesex County | Longhill Brook | Approximately 130 feet downstream of South Main Street | *53 | *52
|  |  | Just upstream of Wesleyan Road | *188 | *187
|  | Longhill Brook Diversion Channel | At the downstream confluence with Longhill Brook | *80 | *82
|  |  | At the upstream confluence with Longhill Brook | *91 | *98
|  | Roundhill Brook | At the confluence with Longhill Brook | *85 | *88
Maps available for inspection at the Middletown City Hall, 45 DeKoven Drive, Middletown, Connecticut.
Send comments to The Honorable Domenique S. Thornton, Mayor of the City of Middletown, P.O. Box 1300, Middletown, Connecticut 06457.
Connecticut | South Windsor (Town), Hartford County | Avery Brook | Approximately 1,475 feet downstream of Benedict Drive | *175 | *176
|  |  | Approximately 340 feet downstream of Beelzebub Road | None | *226
Maps available for inspection at the South Windsor Town Hall, 1540 Sullivan Avenue, South Windsor, Connecticut.
Send comments to Mr. Matthew Galligan, South Windsor Town Manager, South Windsor Town Hall, 1540 Sullivan Avenue, South Windsor, Connecticut 06074.
Florida | Gulf County (Unincorporated Areas) | Gulf of Mexico | Approximately 500 feet south of intersection of Americus Avenue and Pine Street | None | *8
|  |  | Approximately 250 feet southwest of intersection of U.S. Route 98 and Helmet Street | *10 | *16
|  | St. Joseph Bay | Approximately 1,000 feet east along Airport Road from its intersection with State Route 30 | *7 | *8
|  |  | Approximately 1,500 feet northwest, of Chickenhouse Branch crossing of U.S. Route 98 | *10 | *16
|  |  | At intersection of Jackson and Madison Streets | None | *8
Maps available for inspection at the Gulf County Courthouse, 1000 Cecil G. Costin, Sr., Boulevard, Room 147, Port St. Joe, Florida.
Send comments to Mr. Billy Traylor, Chairman of the Gulf County Board of Commissioners, 1000 Cecil G. Costin, Sr., Boulevard, Port St. Joe, Florida 32456.
Florida | Port St. Joe (City) Gulf County | St. Joseph Bay | Intersection of 11th Street and Palmer Boulevard | None | *8
|  |  | Approximately 250 feet west of intersection of Constitution Drive and 14th Street | *10 | *12
|  |  | At intersection of 16th Street and Long Avenue | *7 | *8
|  | Shallow Flooding | Approximately 425 feet southeast of intersection of Fourth Street and Woodward Avenue | *10 | *8
Maps available for inspection at the City of Port St. Joe Chamber of Commerce Office, 105 West 4th Street, Port St. Joe, Florida.
Send comments to The Honorable Frank Pate, Jr., Mayor of the City of Port St. Joe, 305 Cecil G. Costin, Sr., Boulevard, Port St. Joe, Florida 32456.
Illinois | LaSalle County (Unincorporated Areas) | Goose Creek | At downstream corporate limits | None | *509
|  |  | At upstream corporate limits | None | *516
|  | Illinois River | Approximately 2.5 miles downstream of State Route 251 | None | *462
|  |  | Approximately 1.1 miles upstream of South Main Street (State Route 170) | None | *497
|  | Fox River | At the confluence with the Illinois River | None | *472
|  |  | Approximately 850 feet downstream of confluence of Clear Creek | None | *554
|  | Prairie Creek | At the confluence with the Vermilion River | None | *573
|  |  | A point approximately 2,850 feet upstream of Otter Creek Road | None | *628
|  | Vermilion River | Upstream of Oakley Road | None | *567
|  |  | Approximately 0.77 mile upstream of Bridge Street | None | *580
|  | Clark Run Creek | At confluence with Illinois River | None | *466
|  |  | Approximately 625 feet upstream of abandoned Illinois and Michigan Canal | None | *473
|  | Coal Run Creek | Approximately 50 feet upstream of South Otter Creek Road | None | *614
|  |  | Approximately 585 feet upstream of South Otter Creek Road | None | *615
|  | Rat Run | At the confluence with the Illinois River | None | *494
|  |  | At the Missouri, Kansas, Texas Railroad | None | *501
|  | Lake Holiday | Entire shoreline within community | None | *644
|  | First Creek | Approximately 970 feet upstream of confluence with Little Vermilion River | None | *715
|  |  | Approximately 250 feet upstream of 6th Street | None | *719
|  | First Creek Tributary | Approximately 350 feet upstream of 17th Street | None | *740
|  |  | At 17th Street | None | *740
|  | South Branch Coal Run Creek | Downstream side of South Otter Creek Street | None | *614
|  |  | Approximately 425 feet upstream of South Otter Creek Street | None | *615
|  | Ponding Area | Approximately 1,800 feet northwest of intersection of West Church Street and Johnson Street | None | #1
Maps available for inspection at the LaSalle County Courthouse, County Clerk's Office, 707 Etna Road, Ottawa, Illinois.
Send comments to Mr. Joseph Hettel, Chairman of the LaSalle County Board of Commissioners, 707 Etna Road, Ottawa, Illinois 61350.
Maine | Andrews Island, Knox County | Atlantic Ocean | Approximately 2,000 feet northeast of Nash Point |  | *20
|  |  | At the island of The Neck, west side of Andrews Island |  | *10
Maps available for inspection at the Land Use Regulation Commission, AMHI Complex, Harlow Building, Hospita Street, Augusta, Maine.
Send comments to Mr. Fred Todd, Manager, Land Use and Regulation Commission, 22 State House Station, Augusta, Maine 04333-0022.
Minnesota | Houston County (Unincorporated Areas) | Root River | Approximately 2.8 miles downstream of State Route 76 | *677 | *676
|  |  | Approximately 2.2 miles upstream of State Route 76 | None | *690
Maps available for inspection at the Houston County Courthouse, Zoning Office, 304 South Marshall, Caledonia, Minnesota.
Send comments to Mr. Wendell Wild, Chairman of the Houston County Board of Commissioners, 304 South Marshall, Caledonia, Minnesota 55921.
New Hampshire | Holderness (Town), Grafton County | Pemigewasset River | At downstream corporate limits | *485 | *483
|  |  | At upstream corporate limits | *490 | *489
Maps available for inspection at the Holderness Town Office, Route 3, Holderness, New Hampshire.
Send comments to Mr. Steve Huff, Chairman of the Town of Holderness Board of Selectmen, P.O. Box 203, Holderness, New Hampshire 03245.
New Hampshire | Plymouth (Town), Grafton County | Pemigewasset River | Approximately 1.2 miles downstream of the confluence with Glove Hollow Brook | *483 | *481
|  |  | Approximately 1.3 miles upstream of Interstate 95 | *490 | *489
Maps available for inspection at the Plymouth Town Hall, 6 Post Office Square, Plymouth, New Hampshire.
Send comments to Mr. Steve Panagoulis, Chairman of the Town of Plymouth Board of Selectmen, Plymouth Town Hall, 6 Post Office Square, Plymouth, New Hampshire 03264.
New Hampshire | Walpole (Town), Cheshire County | Connecticut River | At a point approximately 200 feet upstream of Bellows Falls Dam | *295 | *296
|  |  | At a point approximately 1.8 miles upstream of Bellows Falls Dam | *297 | *302
Maps available for inspection at the Walpole Town Hall, Selectman's Office, Elm Street, Walpole, New Hampshire.
Send comments to Mr. Charles Miller, Chairman of the Town of Walpole Board of Selectmen, P.O. Box 729, Walpole, New Hampshire 03608.
New Jersey | Alexandria (Township), Hunterdon County | Delaware River | At downstream corporate limits | *129 | *127
|  |  | At a point approximately 1,000 feet downstream of the upstream corporate limits | *136 | *135
|  | Harihokake Creek | At confluence with Delaware River | *133 | *131
|  |  | At a point approximately 0.6 mile upstream of confluence with Delaware River | *133 | *132
Maps available for inspection at the Alexandria Township Hall, 21 Hog Hollow Road, Pittstown, New Jersey.
Send comments to The Honorable Harry Fuerstenburger, Mayor of the Township of Alexandria, 21 Hog Hollow Road, Pittstown, New Jersey 08867.
New Jersey | Chatham (Borough), Morris County | Passaic River | Approximately 175 feet downstream of Main Street | *181 | *180
|  |  | Approximately 300 feet upstream of Stanley Avenue | *204 | *205
Maps available for inspection at the Chatham Borough Hall, 54 Fairmount Avenue, Chatham, New Jersey.
Send comments to Mr. Henry M. Underhill, Chatham Borough Administrator, 54 Fairmount Avenue, Chatham, New Jersey 07928.
New Jersey | Chatham (Township), Morris County | Passaic River | Approximately 0.38 mile downstream of Mount Vernon Avenue | *204 | *205
|  |  | Approximately 1,520 feet upstream of Snyder Avenue | *214 | *212
Maps available for inspection at the Chatham Township Hall, 58 Meyersville Road, Chatham, New Jersey.
Send comments to The Honorable Tom Patterson, Mayor of the Township of Chatham, 58 Meyersville Road, Chatham, New Jersey 07928.
New Jersey | Ewing (Township), Mercer County | Delaware River | At downstream corporate limits | *36 | *40
|  |  | Approximately 1,300 feet downstream of confluence of Jacobs Creek | *48 | *47
Maps available for inspection at the Clerk's Office, 2 Jake Garzio Drive, Ewing, New Jersey.
Send comments to The Honorable Alfred W. Bridges, Mayor of the Township of Ewing, 2 Jake Garzio Drive, Ewing, New Jersey 08628.
New Jersey | Harmony (Township), Warren County | Delaware River | At downstream corporate limits | *202 | *201
|  |  | A point approximately 260 feet upstream of the upstream corporate limits | *230 | *232
|  | Buckhorn Creek | At confluence with Delaware River | *221 | *225
|  |  | A point approximately 1,800 feet upstream of confluence with Delaware River | *224 | *225
Maps available for inspection at the Harmony Township Hall, 3003 Belvidere Road, Phillipsburg, New Jersey.
Send comments to The Honorable Henry Skirbst, Mayor of the Township of Harmony, 3003 Belvidere Road, Phillipsburg, New Jersey 08865.
New Jersey | Holland (Township), Hunterdon County | Delaware River | A point approximately 1,800 feet upstream of downstream corporate limit | *142 | *141
|  |  | Approximately 1.2 miles downstream of upstream corporate limit | *156 | *155
|  | Tributary No. 1 to Delaware River | At confluence with Delaware River | *148 | *147
|  |  | Approximately 1,500 feet upstream of confluence with Delaware River | *148 | *147
Maps available for inspection at the .
Send comments to The Honorable John B. DiSarro, Mayor of the Township of Holland, 61 Church Road, Milford, New Jersey 08848.
New Jersey | Oswego (Town), Oswego County | Lake Ontario | Entire shoreline within community | *249 | *250
Maps available for inspection at the Oswego Town Hall, 2320 County Route 7, Oswego, New York.
Send comments to Mr. Jack Tyrie, Jr., Oswego Town Supervisor, 2320 County Route 7, Oswego, New York 13216.
New Jersey | Stockton (Borough), Hunterdon County | Brookville Creek | At the confluence with Delaware and Raritan Canal | *78 | *82
|  |  | Approximately 305 feet upstream of State Route 29 | *81 | *82
|  | Delaware River | At downstream corporate limits | *78 | *82
|  |  | Approximately 0.59 mile upstream of Bridge Street | *84 | *87
|  | Wickecheoke Creek | At the confluence with Delaware and Raritan Canal | *84 | *87
|  |  | Approximately 845 feet upstream of State Route 29 | *86 | *87
Maps available for inspection at the Stockton Borough Hall, 2 Main Street, Stockton, New Jersey.
Send comments to The Honorable Gigi Celli, Mayor of the Borough of Stockton, Municipal Building, P.O. Box M, Stockton, New Jersey 08559.
New York | Frankfort (Village), Herkimer County | Mohawk River | Approximately 0.38 mile downstream of Railroad Street | *396 | *395
|  |  | Approximately 0.31 mile downstream of upstream corporate limits | *396 | *397
Maps available for inspection at the Frankfort Village Hall, Clerk's Office, 126 East Orchard Street, Frankfort, New York.
Send comments to The Honorable Fred Pumilio, Mayor of the Village of Frankfort, 126 East Orchard Street, Frankfort, New York 13340.
New York | Holland Patent (Village), Oneida County | Diversion Channel | Approximately 100 feet upstream of the confluence with Willow Creek | None | *653
|  |  | Approximately 590 feet upstream of Steuben Street | None | *671
|  | Ninemile Creek | Approximately 830 feet downstream of the confluence of Thompson's Creek | None | *573
|  |  | Approximately 420 feet upstream of the confluence of Thompson's Creek | None | *580
|  | Thompson's Creek | Approximately 350 feet upstream of the confluence with Ninemile Creek | None | *585
|  |  | Approximately 980 feet upstream of East Main Street | None | *669
Maps available for inspection at the Holland Patent Village Hall, 9531 Center Street, Holland Patent, New York.
Send comments to The Honorable Michael Bennison, Mayor of the Village of Holland Patent, P.O. Box 302, Holland Patent, New York 13354.
New York | Italy (Town), Yates County | Lake Canandaigua | Entire shoreline within community | None | *692
Maps available for inspection at the Italy Town Clerk's Office, 6085 Italy Valley Road, Naples, New York.
Send comments to Mr. Thomas M. Moriarty, Italy Town Supervisor, 6085 Italy Valley Road, Naples, New York 14512.
New York | Lancaster (Town), Erie County | Little Buffalo Creek | At confluence with Cayuga Creek | None | *679
|  |  | At a point approximately 1,200 feet upstream of Schwartz Road | None | *723
|  | Scajaquada Creek | At Service Place | *696 | *697
|  |  | At a point approximately 600 feet upstream of Stoneledge Drive | None | *711
|  | Plum Bottom Creek | Upstream side of Steinfeldt Road | *685 | *686
|  |  | At a point approximately 720 feet upstream of Cemetery Road | *700 | *702
|  | Ellicott Creek | Approximately 1,700 feet upstream of Transit Road | *701 | *702
|  |  | Approximately 100 feet upstream of Pavement Road | None | *729
Maps available for inspection at the Town of Lancaster Building Inspector's Office, 11 West Main Street, Lancaster, New York.
Send comments to Mr. Robert Giza, Lancaster Town Supervisor, 21 Central Avenue, Lancaster, New York 14086.
New York | Monroe (Town), Orange County | Palm Brook | Approximately 72 feet upstream of State Route 17 | None | *657
|  |  | Approximately 0.3 mile upstream of Raywood Drive | None | *760
Maps available for inspection at the Town of Monroe Building Department, 11 Stage Road, Monroe, New York.
Send comments to Mr. Mike Frerichs, Monroe Town Supervisor, 11 Stage Road, Monroe, New York 10950.
New York | Oneida (City), Madison County | Higinbotham Brook | At abandoned railroad | *429 | *428
|  |  | Approximately 460 feet upstream of State Route 5 | None | *479
Maps available for inspection at the City of Oneida Municipal Building, 109 Main Street, Oneida, New York.
Send comments to The Honorable James Chappell, Mayor of the City of Oneida, 109 North Main Street, Oneida, New York 13421.
New York | Scriba (Town), Oswego County | Lake Ontario | Entire shoreline within community | *249 | *250
|  | Wine Creek | At downstream corporate limits | *343 | *329
|  |  | Approximately 600 feet upstream of downstream corporate limits | *343 | *334
Maps available for inspection at the Scriba Town Clerk's Office, 42 Creamery Road, Oswego, New York.
Send comments to Mr. Steve Baxter, Scriba Town Supervisor, Scriba Town Hall, 42 Creamery Road, Oswego, New York 13216.
North Carolina | Burke County (Unincorporated Areas) | Drowning Creek | A point approximately 500 feet downstream of Cape Hickory Road | *970 | *969
|  |  | A point approximately 0.86 mile upstream of the confluence of Drowning Creek Tributary 2 | None | *1,002
|  | Drowning Creek Tributary 1 | At the confluence with Drowning Creek | None | *980
|  |  | A point approximately 950 feet upstream of Wilson Road | None | *1,028
|  | Drowning Creek Tributary 2 | At the confluence with Drowning Creek | None | *989
|  |  | A point approximately 1.11 miles upstream of the confluence of Drowning Creek Tributary 3 | None | *1,045
|  | Drowning Creek Tributary 3 | At the confluence with Drowning Creek Tributary 2 | None | *1,006
|  |  | A point approximately 1,450 feet upstream of Tex's Fish Camp Road | None | *1,024
|  | Henry Fork | A point approximately 1.27 miles downstream of Henry River Road | None | *927
|  |  | A point approximately 1.02 miles downstream of Henry River Road | None | *928
Maps available for inspection at the Burke County Community Development Department, Avery Avenue Government Building, 200 Avery Avenue, Morganton, North Carolina.
Send comments to Mr. Ron George, Burke County Manager, P.O. Box 219, Morganton, North Carolina 28680.
Pennsylvania | Buffalo (Township), Butler County | Buffalo Creek | Approximately 300 feet downstream of CONRAIL | None | *768
|  |  | Approximately 770 feet downstream of CONRAIL | None | *768
Maps available for inspection at the Buffalo Township Hall, 109 Bear Creek Road, Sarver, Pennsylvania.
Send comments to Mr. Albert Roenigk, Chairman of the Township of Buffalo Board of Supervisors, 109 Bear Creek Road, Sarver, Pennsylvania 16055.
Pennsylvania | Collegeville (Borough), Montgomery County | Perkiomen Creek | At a point approximately 0.85 mile downstream of Ridge Pike | *116 | *114
|  |  | At a point approximately 0.57 mile downstream of State Route 113 | *123 | *122
Maps available for inspection at the Collegeville Borough Hall, 491 East Main Street, Collegeville, Pennsylvania.
Send comments to The Honorable Dennis D. Parker, Mayor of the Borough of Collegeville, 491 East Main Street, Collegeville, Pennsylvania 19426.
Pennsylvania | East Rockhill (Township), Bucks County | East Branch Perkiomen Creek | A point approximately 50 feet upstream of East Callowhill Road | *316 | *315
|  |  | Approximately 620 feet upstream of East Callowhill Road | *318 | *317
Maps available for inspection at the East Rockhill Township Office, 1622 Ridge Road, Perkasie, Pennsylvania.
Send comments to Mr. John Cressman, Chairman of the Township of East Rockhill Board of Supervisors, 1622 Ridge Road, Perkasie, Pennsylvania 18944.
Pennsylvania | Franconia (Township), Montgomery County | East Branch Perkiomen Creek | Approximately 500 feet downstream of Moyer Road | *219 | *222
|  |  | At a point approximately 400 feet downstream of County Line Road | *275 | *276
Maps available for inspection at the Franconia Municipal Building, 671 Allentown Road, Franconia, Pennsylvania.
Send comments to J. Delton Plank, Township Manager, P.O. Box 128, Franconia, Pennsylvania 18924.
Pennsylvania | Green Lane (Borough), Montgomery County | Perkiomen Creek | Approximately 1,050 feet downstream of confluence of Macoby Creek | *219 | *221
|  |  | Approximately 50 feet downstream of Park Road | *225 | *229
Maps available for inspection at the Green Lane Borough Hall, 201 Main Street, Green Lane, Pennsylvania.
Send comments to Ms. Jeanny Ruth, President of the Borough Council, P.O. Box 514, Green Lane, Pennsylvania 18054.
Pennsylvania | Heidelberg (Township), Berks County | Tulpehocken Creek | From a point approximately 60 feet downstream of Water Street | *345 | *336
|  |  | At a point approximately 400 feet downstream of U.S. Route 422 | *359 | *357
Maps available for inspection at the Heidelberg Municipal Building, 11 Tulpehocken Forge, Robesonia, Pennsylvania.
Send comments to Mr. Russell Rogers, Township of Heidelberg Administrator, P.O. Box 241, Robesonia, Pennsylvania 19551.
Pennsylvania | Lower Frederick (Township), Montgomery County | Perkiomen Creek | At a point approximately 250 feet upstream of Park Avenue | *146 | *147
|  |  | Approximately 0.65 mile downstream of confluence with Unami Creek | *185 | *187
|  | Swamp Creek | At the confluence with Perkiomen Creek | *148 | *150
|  |  | At a point approximately 1,140 feet upstream of Spring Mount Road | *150 | *151
Maps available for inspection at the Lower Frederick Township Building, 53 Spring Mount Road, Spring Mount, Pennsylvania 19492.
Send comments to Mr. Bill McGovern, Chairman of the Board of Supervisors, P.O. Box 253, Zieglersville, Pennsylvania 19492.
Pennsylvania | Lower Providence (Township), Montgomery County | Perkiomen Creek | At a point approximately 100 feet upstream of the confluence with the Schuylkill River | *95 | *94
|  |  | Approximately 0.65 mile downstream of State Route 113 | *123 | *122
|  | Skippack Creek | At the confluence with Perkiomen Creek | *104 | *99
|  |  | Approximately 0.6 mile upstream of Arcola Road | *105 | *102
Maps available for inspection at the Lower Providence Administration Building, 100 Parklane Drive, Eagleville, Pennsylvania.
Send comments to Mr. Thomas A. Borai, Chairman of the Township of Lower Providence, 100 Parklane Drive, Eagleville, Pennsylvania 19403.
Pennsylvania | Lower Salford (Township), Montgomery County | East Branch Perkiomen Creek | At a point approximately 200 feet upstream of Garges Road | *154 | *157
|  |  | Approximately 0.40 mile upstream of the confluence of Indian Creek | *198 | *200
Maps available for inspection at the Lower Salford Township Hall, 474 Main Street, Harleysville, Pennsylvania.
Send comments to Mr. Richard Prescott, Chairman of the Township of Lower Salford, 474 Main Street, Harleysville, Pennsylvania 19438.
Pennsylvania | Marlborough (Township), Montgomery County | Perkiomen Creek | Approximately 0.5 mile downstream of confluence with Unami Creek | *186 | *189
|  |  | At downstream side of Green Lane Dam | *232 | *235
|  | Unami Creek | From the confluence with Perkiomen Creek | *191 | *192
|  |  | Approximately 800 feet above confluence with Perkiomen Creek | *191 | *192
Maps available for inspection at the Marlborough Municipal Building, 6040 Upper Ridge Road, Green Lane, Pennsylvania.
Send comments to Mr. Carl Stuart, Township of Marlborough Code Enforcement Officer, 6040 Upper Ridge Road, Green Lane, Pennsylvania 18054.
Pennsylvania | Marion (Township), Berks County | Tulpehocken Creek | Approximately 60 feet downstream of Winter Street | *345 | *336
|  |  | A point approximately 275 feet downstream of Main Street | *374 | *373
Maps available for inspection at the Marion Township Building, 20 South Water Street, Stouchsburg, Pennsylvania.
Send comments to Mr. Charles M. Zechman, Jr., Chairman of the Board of Supervisors, 20 South Water Street, Stouchsburg, Pennsylvania 19567.
Pennsylvania | Muhlenberg (Township), Berks County | Bernhart Creek | At the intersection of Raymond Street and Park Avenue | *293 | *290
|  |  | Approximately 260 feet west of the intersection of Jefferson Street and Park Avenue | *295 | *290
Maps available for inspection at the Muhlenberg Township Hall, 555 Raymond Street, Reading, Pennsylvania.
Send comments to Mr. Stephen J. Geras, Chairman of the Township of Muhlenberg Board of Commissioners, 555 Raymond Street, Reading, Pennsylvania 19605.
Pennsylvania | Perkiomen (Township), Montgomery County | Perkiomen Creek | At a point approximately 0.65 mile downstream of State Route 113 | *123 | *122
|  |  | Approximately 550 feet upstream of Park Avenue | *146 | *147
|  | East Branch Perkiomen Creek | At the confluence with Perkiomen Creek | *138 | *136
|  |  | Approximately 250 feet upstream of Garges Road | *154 | *157
Maps available for inspection at the Perkiomen Township Hall, 1 Trappe Road, Collegeville, Pennsylvania.
Send comments to Mr. William Patterson, Chairman of the Township of Perkiomen Board of Supervisors, 1 Trappe Road, Collegeville, Pennsylvania 19426.
Pennsylvania | Salford (Township), Montgomery County | East Branch Perkiomen Creek | At the downstream side of Moyer Road | *220 | *224
|  |  | At a point approximately 400 feet downstream of County Line Road | *275 | *276
Maps available for inspection at the Salford Township Hall, 159 Ridge Road, Tylersport, Pennsylvania.
Send comments to Mr. Donald R. Lodge, Jr., Chairman of the Township of Salford Board of Supervisors, P.O. Box 54, Tylersport, Pennsylvania 18971.
Pennsylvania | Schwenksville (Borough), Montgomery County | Perkiomen County | Approximately 50 feet downstream of Garges Road | *140 | *137
|  |  | Approximately 500 feet upstream of Park Avenue | *146 | *147
Maps available for inspection at the Schwenksville Borough Hall, 140 Main Street, Schwenksville, Pennsylvania.
Send comments to Mr. Bernard McCollum, President of the Borough of Schwenksville, 140 Main Street, Schwenksville, Pennsylvania 19473.
Pennsylvania | Skippack (Township), Montgomery County | Perkiomen Creek | Approximately 0.7 mile downstream of State Route 113 | *122 | *121
|  |  | At confluence of East Branch Perkiomen Creek | *138 | *136
|  | East Branch Perkiomen Creek | At the confluence with Perkiomen Creek | *138 | *136
|  |  | At a point approximately 350 feet upstream of Garges Road | *154 | *157
Maps available for inspection at the Skippack Township Building, 1246 Bridge Road, Skippack, Pennsylvania.
Send comments to Mr. Samuel DiNenna, Chairman of the Township of Skippack Board of Supervisors, 1246 Bridge Road, Skippack, Pennsylvania 19474.
Pennsylvania | Upper Frederick (Township), Montgomery County | Perkiomen Creek | At a point approximately 0.65 mile downstream of confluence with Unami Creekl | *185 | *187
|  |  | At the downstream side of Green Lane Dam | *232 | *235
Maps available for inspection at the Upper Frederick Township Hall, 3205 Big Road, Obelisk, Pennsylvania.
Send comments to Mr. Mark A. Butkowski, Chairman of the Township of Upper Frederick Board of Supervisors, P.O. Box 597, Frederick, Pennsylvania 19435.
Pennsylvania | Upper Providence (Township), Montgomery County | Perkiomen Creek | Approximately 100 feet upstream of the confluence with the Schuylkill River | *95 | *94
|  |  | At a point approximately 0.85 mile downstream of Ridge Pike | *116 | *114
Maps available for inspection at the Upper Providence Township Building, 1286 Black Rock Road, Oaks, Pennsylvania.
Send comments to Mr. George W. Waterman, III, Upper Providence Township Manager, P.O. Box 406, Oaks, Pennsylvania 19456.
Pennsylvania | Upper Salford (Township), Montgomery County | East Branch Perkiomen Creek | At a point approximately 1,900 feet upstream of the confluence of Indian Creek | *198 | *200
|  |  | At downstream side of Moyer Road | *220 | *224
|  | Perkiomen Creek | Approximately 500 feet upstream of Park Avenue | *146 | *147
|  |  | Approximately 0.5 mile downstream of confluence with Unami Creek | *186 | *189
|  | Vaughn Run | At the confluence with East Branch Perkiomen Creek | *213 | *215
|  |  | Approximately 380 feet upstream of the confluence with East Branch Perkiomen Creek | *214 | *215
Maps available for inspection at the Upper Salford Township Hall, 1441 Salford Station Road, Salford, Pennsylvania.
Send comments to Mr. Kenneth S. Hagey, Chairman of the Township of Upper Salford Board of Supervisors, P.O. Box 100, Salfordville, Pennsylvania 18958.
Pennsylvania | Womelsdorf (Borough), Berks County | Tulpehocken Creek | Approximately 400 feet downstream of U.S. Route 422 | *359 | *357
|  |  | At a point approximately 1,550 feet upstream of U.S. Route 422 | *361 | *360
Maps available for inspection at the Womelsdorf Borough Hall, 101 West High Street, Womelsdorf, Pennsylvania.
Send comments to Mr. Vincent Balistrieri, President of the Borough Council, 101 West High Street, Womelsdorf, Pennsylvania 19567.
Rhode Island | Coventry (Town), Kent County | Tributary A1 | Approximately 400 feet upstream of the confluence with South Branch Pawtuxet River | *241 | *239
|  |  | Approximately 55 feet upstream of Flat River Road | *254 | *246
|  | Tributary A2 | A point approximately 37 feet upstream of Bike Path | *254 | *241
|  |  | A point approximately 85 feet upstream of Bike Path | *254 | *241
Maps available for inspection at the Coventry Town Hall, 1670 Flat River Road, Coventry, Rhode Island.
Send comments to Mr. Francis Frobel, Coventry Town Manager, Coventry Town Hall, 1670 Flat River Road, Coventry, Rhode Island 02816.
Tennessee | Henry County (Unincorporated Areas) | Tennessee River (Kentucky Lake) | Entire shoreline within Henry County | None | *370
|  | Smallwood Branch | At the confluence with Bailey Fork Creek | *390 | *389
|  |  | Approximately 0.38 mile upstream of India Road | None | *405
|  | Bailey Fork Creek | Approximately 45 feet upstream of County Home Road | *388 | *389
|  |  | Approximately 1,375 feet upstream of County Home Road | *389 | *390
Maps available for inspection at the Henry County Courthouse, 101 West Washington Street, Paris, Tennessee.
Send comments to Mr. Brent Greer, Henry County Executive, Henry County Courthouse, P.O. Box 7, Paris, Tennessee 38242-0007.
Tennessee | Paris (City), Henry County | Smallwood Branch | At the confluence with Bailey Fork Creek | *390 | *389
|  |  | Approximately 1,250 feet upstream of U.S. Highway 79 | *401 | *398
|  | Bailey Fork Creek | Approximately 45 feet upstream of County Home Road | *388 | *389
|  |  | Approximately 1,375 feet upstream of County Home Road | *389 | *390
Maps available for inspection at the Paris City Hall, 100 North Caldwell Avenue, Paris, Tennessee.
Send comments to Mr. Carl Holder, Jr., Paris City Manager, P.O. Box 970, Paris, Tennessee 38242.
Virginia | Pittsylvania County (Unincorporated Areas) | Dan River | At State boundary | *395 | *396
|  |  | Approximately 3.0 miles downstream of Southern Railway | *457 | *458
Maps available for inspection at the Pittsylvania County Zoning Office, 53 North Main Street, Chatham, Virginia.
Send comments to Mr. William D. Sleeper, Pittsylvania County Administrator, P.O. Box 426, Chatham, Virginia 24531.

(Catalog of Federal Domestic Assistance No. 83.100, “Flood Insurance.”)
Dated: August 25, 2000.
Michael J. Armstrong,
Associate Director for Mitigation.

[FR Doc. 00-22806 Filed 9-5-00; 8:45 am]

BILLING CODE 6718-04-P